DEPARTMENT OF ENERGY

Federal Energy Regulatory Commission

[Docket No. EL00-95-000, et al.; Docket No. EL00-98-000, et al.; Docket No. ER03-746-000, et al.]

San Diego Gas & Electric Company, Complainant, v. Sellers of Energy and Ancillary Services, Into Markets Operated by the California, Independent System Operator, and the California Power Exchange, Respondents; Investigation of Practices of the California Independent System Operator and the California Power Exchange; California Independent System Operator Corporation; Notice of Technical Conference

September 27, 2004.

The Federal Energy Regulatory Commission staff is convening a technical conference to discuss with the California Independent System Operator Corporation (CAISO) and market participants and facilitate a better understanding of several aspects of the CAISO's proposed methodology for allocating the fuel cost allowance. In San Diego Gas & Electric Co. v. Sellers of Energy & Ancillary Serv., et al., 107 FERC 61,166 (2004), the Commission directed the CAISO to develop a methodology to allocate recovery of the fuel allowance. The CAISO's compliance filing, and the numerous protests and comments submitted in response thereto, raise new issues, including: the netting of sales and purchases, the mechanics of the implementation of the fuel cost allowance offset, and the consistency of the CAISO's proposed methodology for allocating fuel cost allowance with the intent of the refund proceeding. Participants are requested to restrict their contributions to this conference to the issues related to the process and mechanics of allocating recovery of the fuel cost allowance within the framework of the refund proceeding. A separate notice will be issued by the Commission to announce the final agenda of the staff technical conference.

The staff technical conference will be held on October 7, 2004, at the Federal Energy Regulatory Commission, 888 First Street, NE., Washington, DC beginning at 9 a.m. (e.s.t.) in a room to be announced at a later date.

The conference is open for the public to attend, and registration is not required. For more information about the conference, please contact: Olga Kolotushkina, Office of General Counsel, Federal Energy Regulatory Commission at (202) 502-6024 or shawn.bennett@ferc.gov.

Magalie R. Salas,
Secretary.

[FR Doc. E4-2453 Filed 9-30-04; 8:45 am]

BILLING CODE 6717-01-P